DEPARTMENT OF COMMERCE

[Docket No. 140421355-4496-02]

Privacy Act New System of Records

AGENCY: Department of Commerce.

ACTION: Notice; Commerce/Department-24, BusinessUSA Intellectual Hosting Service Application and Satisfaction Survey Records.

SUMMARY: The Department of Commerce (Commerce) publishes this notice to announce the effective date of a Privacy Act System of Records entitled Commerce/Department-24, BusinessUSA Intellectual Hosting Service Application and Satisfaction Survey Records. The notice of proposed amendment to this system of records was published in the Federal Register on May 13, 2014.

DATES: The system of records becomes effective on June 18, 2014.

ADDRESSES: For a copy of the system of records please mail requests to Efrain Gonzalez, Jr., BusinessUSA, U.S. Department of Commerce, Room 2830, 1401 Constitution Avenue NW., Washington, DC 20230.

FOR FURTHER INFORMATION CONTACT: Efrain Gonzalez, Jr., Chief Financial Officer/Chief Administrative Officer, BusinessUSA, 202-482-6407.

SUPPLEMENTARY INFORMATION: On May 13, 2014, the Department of Commerce published and requested comments on a proposed Privacy Act System of Records entitled Commerce/Department-24, BusinessUSA Intellectual Hosting Service Application and Satisfaction Survey Records (79 FR 92). No comments were received in response to the request for comments. By this notice, the Department is adopting the proposed system as final without changes effective June 18, 2014.

Dated: June 13, 2014.
Brenda Dolan,
U.S. Department of Commerce, Freedom of Information and Privacy Act Officer.

[FR Doc. 2014-14222 Filed 6-17-14; 8:45 am]

BILLING CODE 3510-17-P